DEPARTMENT OF ENERGY

Federal Energy Regulatory Commission

[Docket No. AD19-16-000]

Request for Information on Performance Metrics for ISOs, RTOs, and Utilities in Regions Outside ISOs and RTOs

AGENCY: Federal Energy Regulatory Commission.

ACTION: Notice and request for information.

SUMMARY: The Federal Energy Regulatory Commission (Commission or FERC) encourages Independent System Operators (ISOs), Regional Transmission Organizations (RTOs), and utilities in regions outside ISOs and RTOs to submit information within 90 days for the calendar years 2019 to 2022.

DATES: The requested information is due April 24, 2023.

ADDRESSES: Respondents should submit their responses in Docket No. AD19-16-000 via the Commission's electronic filing (eFiling) system.¹ Submissions should be made using the OMB-approved Information Collection Input Spreadsheet (Excel workbook) and the associated Common Metrics Information Collection User Guide.²

¹ More information on the Commission's eFiling system is posted at: https://www.ferc.gov/docs-filing/efiling.asp. All submissions to the Commission must be formatted and filed in accordance with submission guidelines described at: https://www.ferc.gov/ferc-online/elibrary.

² Links to the approved Information Collection Input Spreadsheet (Excel workbook) and the Common Metrics Information Collection User Guide can be found at: https://www.ferc.gov/industries-data/electric/electric-power-markets/rtoiso-performance-metrics. These two items will not be published in the Federal Register but will be available in eLibrary.

FOR FURTHER INFORMATION CONTACT: Darren Sheets at Darren.Sheets@ferc.gov or 202-502-8742.

SUPPLEMENTARY INFORMATION: On April 21, 2020, the Office of Management and Budget (OMB) approved the Federal Energy Regulatory Commission (Commission or FERC) staff's request for reinstatement and revision of the FERC-922 (Performance Metrics for ISOs, RTOs, and Regions Outside ISOs and RTOs, OMB Control No. 1902-0262) information collection, as discussed in Docket No. AD19-16-000. Consistent with the OMB-approved information collection, ISOs, RTOs, and utilities in regions outside ISOs and RTOs are encouraged to submit responsive information by April 24, 2023 for the calendar years 2019 to 2022.³ Commission staff most recently requested responsive information under this OMB-approved information collection for the years 2014 to 2018 and published a report based on that information collection on July 23, 2021.⁴

³ In the OMB request for reinstatement and revision of the FERC-922 information collection, Commission staff indicated that respondents would be given 90 days to submit responses to the information collection.

⁴ The most recent report, “Common Metrics Report: Performance Metrics for ISOs, RTOs, and Regions Outside ISOs and RTOs for the Reporting Period 2014 to 2018” can be found at: https://www.ferc.gov/media/2021-common-metrics-docket-no-ad19-16-000-staff-report.

Dated: January 18, 2023.
Kimberly D. Bose,
Secretary.

[FR Doc. 2023-01319 Filed 1-23-23; 8:45 am]

BILLING CODE 6717-01-P